DEPARTMENT OF AGRICULTURE

Submission for OMB Review; Comment Request

April 12, 2001.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Foreign Agricultural Service

Title: CCC's Facility Guarantee Program (FGP).

OMB Control Number: 0551-0032.

Summary of Collection: Under the authority of 7 CFR Part 1493, Subpart C, the Facility Guarantee Program (FGP) offers credit guarantees to facilitate the financing of U.S. manufactured goods and services to improve or establish agriculture infrastructure in emerging markets. Sales under FGP are considered normal commercial sales. The FGP makes available export credit guarantees to encourage U.S. private sector financing of foreign purchase of U.S. goods and services on credit terms. FAS will collect information in a letter format via mail or facsimile.

Need and Use of the Information: FAS will collect information to determine eligibility for FGP benefits and to ensure CCC that all participants have a business office in the U.S. and are not debarred or suspended from participating in government programs. FAS will use the application to determine a project's eligibility for FGP coverage and to determine the impact on U.S. agricultural trade. The information requested will provide CCC with adequate information to meet statutory requirements. If the information were not collected CCC would be unable to determine if export sales under the FGP would be eligible for coverage or, if coverage conformed to program requirements.

Description of Respondents: Business or other for-profit.

Number of Respondents: 10.

Frequency of Responses: Recordkeeping; Reporting: On occasion.

Total Burden Hours: 256.

Agricultural Marketing Service

Title: Seed Service Testing Programs.

OMB Control Number: 0581-0140.

Summary of Collection: The Agricultural Marketing Act (AMA) of 1946, as amended by 7 U.S.C. 1621, authorizes the Secretary to inspect and certify the quality of agricultural products and collect such fees as reasonable to cover the cost of services rendered. The purpose of the voluntary programs is to promote efficient, orderly marketing of seeds submitted to the Agricultural Marketing Service (AMS) and to ensure seeds are tested for factors such as purity and germination at the request of the applicant for the service. The Testing Section of the Seed Regulatory and Testing Branch of AMS, which tests the seed and issues the certificates, is the only Federal seed testing facility that can issue the Federal Seed Analysis Certificate.

Need and Use of the Information: Applicants generally are seed firms who use the seed analysis certificates to represent the quality of seed lots to foreign customers according to the terms specified in contracts of trade. The only information collected is information needed to provide the service requested by the applicant. Applicants must provide information such as the kind and quality of seed, tests to be performed, and seed treatment, if present, along with a sample of seeds in order for AMS to provide the service. Only authorized AMS employees use the information collected to track, test, and report test results to the applicant. If the information were not collected, AMS would not know which test to conduct or would not be able to relate the test results with a specific lot of seed. The information must be provided for each sample the applicant submits for test. Without the AMS program, applicants would have to obtain tests from state or commercial laboratories.

Description of Respondents: Business or other for-profit; farms; State, Local or Tribal Government.

Number of Respondents: 65.

Frequency of Responses: Reporting: On occasion.

Total Burden Hours: 392.

Agricultural Marketing Service

Title: Marketing Order for Fruit Crops.

OMB Control Number: 0581-0189.

Summary of Collection: Industries enter into Marketing Order Programs under the Provisions of the Agricultural Marketing Agreement Act (AMAA) of 1937, as amended by U.S.C. 601-674. The intent of the Act is to provide the respondents the type of service they request, and to administer the marketing order programs. Marketing Order programs provide an opportunity for producers of fresh fruits, vegetables and specialty crops, in specified production areas, to work together to solve marketing problems that cannot be solved individually. Order regulations help ensure adequate supplies of high quality product and adequate returns to producers. Under the Market Orders, producers and handlers are nominated by their respective peers and serve as representatives on their respective committees/boards. This information collection will merge together the following separate collections #: OMB 0581-0094, Oranges, Grapefruit, Tangerines, and Tangelos grown in Florida, Marketing Order No. 905; OMB #0581-0080, Fresh Pears and Peaches Grown in CA., Marketing Order No. 917; OMB #0581-0095, Apricots Grown in Designated Counties in Washington, marketing Order No. 922; OMB #0581-0089, Winter Pears Grown in Oregon and Washington, Marketing Order No. 927; OMB #0581-0103, Cranberries Grown in the states of Massachusetts, Rhode Island, Connecticut, New Jersey, Wisconsin, Michigan, Minnesota, Oregon, Washington, and Long Island in the State of New York, Marketing Order No. 929; and OMB #0581-0092, Fresh Bartlett Pears Grown in Oregon and Washington, Marketing Order No. 931.

Need and Use of the Information: The information collected is used only by authorized committees, employees, and representatives of the USDA, which includes AMS', Fruit and Vegetable Programs' regional and headquarters staff. Authorized employees of the committee are the primary users of the information. AMS is the secondary user. Forms used to collect information require the minimum to effectively carry out the requirements of the orders, and their use is necessary to fulfill the intent of the AMAA as expressed in the orders.

Description of Respondents: Business or other for-profit; individuals or households; farms; Federal Government; not-for-profit institutions.

Number of Respondents: 21,273.

Frequency of Responses: Recordkeeping; Reporting: On occasion, quarterly; biennially; weekly; semi-annually; monthly; annually.

Total Burden Hours: 11,642.

Forest Service

Title: Volunteer Application for Natural Resource Agencies.

OMB Control Number: 0596-0080.

Summary of Collection: The Volunteer Act of 1972, (Pub. L. 92-300) as amended, authorizes the Forest Service (FS) to recruit and train volunteer workers to accomplish certain work such as building and maintaining trails, constructing campground facilities, improving wildlife habitat, assisting with interpretive services, assisting visitors, and other activities to help the agency meet it mission. Volunteers can be any age, as long as, they are capable of doing the work for which they volunteer. FS will collect information using the Volunteer Application.

Need and Use of the Information: FS will collect the names, addresses, and certain information of individuals who are interested in public service as volunteers. The information is used by Forest Managers for the purpose of contracting applicants and interviewing and screening them for volunteer positions. There could be no program without the information from the application.

Description of Respondents: Individuals or households.

Number of Respondents: 58,100.

Frequency of Responses: Reporting: Other (one time).

Total Burden Hours: 14,525.

Forest Service

Title: Public Information Survey for the Recreation Fee Demonstration Programs at Sedona, AZ on the Coconino National Forest and the Pacific Northwest Region.

OMB Control Number: 0596-0149.

Summary of Collection: The Recreation Fee Demonstration Program authorized by Congress in 1996 (Pub. L. 104-134, and succeeding amendments) allowed the Forest Service (FS) to experiment with new or increased fees at a specified number of sites. The program aims to bring additional resources to recreation lands by generating recreational fee revenues and spending most of the fee revenues at the sites where the fees are collected to increase the quality of a visitor's experience and to enhance protection of the site's resources. The FS is currently engaged in the Recreation Fee Demonstration Program at 65+ sites. A GAO report issued in Nov. 1998 reviewed the Recreation Fee Demonstration Program and pointed out several areas needing attention. The effects of fees on recreation participants and their experiences are unknown to a large extent and comprise an active area of research. FS will collect information using questionnaires in two case study fee demonstration projects.

Need and Use of the Information: FS will collect information to estimate the effects that user fees will have on the future number of visitors to National Forest System Lands and how fees will influence the recreational experiences individuals will choose. The data collected will also enable FS to design a method for payment of fees, which will supplement FS funding and help the agency meet the demands for recreational experiences in an environmentally and socially responsible manner.

Description of Respondents: Individuals or households.

Number of Respondents: 9,250.

Frequency of Responses: Reporting: Other (one time).

Total Burden Hours: 3,043.

Forest Service

Title: Public Perceptions of Land Use Change.

OMB Control Number: 0596-NEW.

Summary of Collection: Pressure on the urban-wildland interface in the Pacific Northwest (including rural open space and forest resource dependent communities) has intensified as multiple interests—recreation, tourism, housing, timber, wildlife, conservation—increasingly compete for use of these areas. Public land management agencies such as the Forest Service (FS) often find themselves in the middle of these competing interests as they strive to incorporate multiple uses and attend to disparate stakeholder groups. An array of laws and regulations address the importance of incorporating public input and other information about public concerns and attitudes into resource management and planning. The National Environmental Policy Act (NEPA) of 1969 mandates the inclusion of public participation in planning and decision-making efforts involving public lands. The National Forest Management Act (NFMA) of 1976 reaffirms this direction by requiring public input into agency decision making as a means of identifying important issues, concerns, and opportunities. FS will collect information using mail survey questionnaires.

Need and Use of the Information: FS will collect information (1) To identify the range of attitudes, concerns, and perceptions about land-use change along Washington's I-90 corridor; (2) to identify the corridor characteristics (e.g., specific places, community characteristics, activities) that people particularly value; (3) to assess similarities and differences in perceptions among the public and different groups of experts; and (4) to explore the utility (or lack of thereof) of traditional “stakeholder group” divisions in explaining people's perception and attitudes. The information will be used by FS to assist resources managers in planning for and managing forest resources in the forests studied. If the information is not collected, resource managers will have to make management decision on very limited, potentially biased or non-existent information.

Descrption of Respondents: Individuals or households; Federal Government; State, Local or Tribal Government.

Number of Respondents: 892.

Frequency of Responses: Reporting: Other (one time).

Total Burden Hours: 446.

Forest Service

Title: Forest Stewardship and Stewardship Incentive Program Participant Demographics.

OMB Control Number: 0596-NEW.

Summary of Collection: The Cooperative Forestry Assistance Act (16 U.S.C., 2103B) authorizes the Forest Service (FS) to provide technical and financial assistance to non-industrial private forest (NIPF) owners under the Forest Stewardship and Stewardship Incentive Programs. The Forest Stewardship Program is the program that helps NIPF landowners prepare the forest stewardship plans for their land. Landowners need a completed forest stewardship plan to become eligible to receive cost-share dollars under the Stewardship Incentive Program. The Stewardship Incentive Program is the program that assists NIPFF owners with up to 75 percent of the funding on a cost-share basis to implement forest stewardship plan practices. FS will collect information using the Stewardship Program Participiant Demographics Form.

Need and Use of the Information: FS will collect annual information on race, ethnicity, gender, and disability status. The data will be used to help the FS evaluate the effectiveness of its outreach efforts to involve representative segments of society in Forest Stewardship Program and Stewardship Incentive Program. If the data were not collected FS would have no way of knowing whether the program was providing equitable access to all who qualify, regardless of race, ethnicity, gender, and disability status.

Description of Respondents: Individuals or households; farms; State, Local or Tribal Government.

Number of Respondents: 20,000.

Frequency of Responses: Reporting: Annually.

Total Burden Hours: 1,667.

Farm Service Agency

Title: Standards for Approval of Warehouses—7 CFR 1421, 1423, and 1427.

OMB Control Number: 0560-0052.

Summary of Collection: The Farm Service Agency (FSA), under Public Law 80-806, the Commodity Credit Corporation (CCC) Charter Act, is authorized to enter into storage contracts with commercial warehouse operators. Specifically, the Act permits FSA to enter into various types of contracts as are necessary in the conduct of its business and directs FSA to utilize the usual and customary channels, facilities and arrangements of trade and commerce in its functions of purchasing, warehousing, transporting, processing, or handling of agricultural commodities. FSA must collect information in order to develop and maintain a List of Approved Warehouses (Approved List) to store CCC-owned or loan commodities. The use of warehouses on the Approved List reduces the risk of loss faced by CCC by using only those facilities, which meet the financial, physical, and managerial requirements of CCC. The information will be collected by mail, which is necessary, because these agreements must be legal and binding.

Need and Use of the Information: The information collected on various forms is necessary to establish and maintain the Approved List. The forms will be reviewed by FSA contracting officers at the Kansas City Commodity Office (KCCO) in order to maintain an Approved List for the storage of CCC-owned or CCC-loan commodities.

Description of Respondents: Business or other for-profit.

Number of Respondents: 3,800.

Frequency of Responses: Recordkeeping; Reporting: On occasion; Annually.

Total Burden Hours: 484,410.

Economic Research Service

Title: Summer Food Service Program Implementation Study.

OMB Control Number: 0536-NEW.

Summary of Collection: The Economic Research Service (ERS) of the U.S. Department of Agriculture needs to obtain detailed information on the Summer Food Service Program (SFSP) operations and administration. ERS will conduct a study to learn more about the factors that contribute to the large gap in participation levels between the National School Lunch Program (NSLP) and the SFSP. The information collected will help determine whether future changes in SFSP policy are warranted.

Need and Use of the Information: ERS will collect information to assess whether the program is efficiently meeting its goal of hunger prevention, and to identify possible barriers to program participation by low-income children. Without the information it would be difficult to determine whether future changes in the SFSP policy are warranted.

Description of Respondents: State, Local or Tribal Government; Not-for-profit institutions; Federal Government.

Number of Respondents: 424.

Frequency of Responses: Reporting: On occasion.

Total Burden Hours: 3,400.5.

Forest Service

Title: Timber Purchasers' Cost and Sales Data.

OMB Control Number: 0596-0017.

Summary of Collection: The Multiple-Use Sustained Yield Act of 1960, the Forest Rangeland Renewable Resources Planning Act of 1974, and the National Forest Management Act of 1976, authorizes the Forest (FS) to sell forest products and National Forest System timber. FS timber appraisers develop advertised timber sale prices using a transaction evidence method of appraisal. Transaction evidence appraisals begin with an average of past successful bids by timber purchasers for timber for which the stumpage rate has been adjusted for the timber sale and the market conditions at the time. FS will collect cost data through the review of submissions by the timber purchasers both locally and nationally. There are no forms required for the collection of costs and timber sale data.

Need and Use of the Information: FS will collect information to verify the minimum rates returned a fair value to the Government and that the transaction system is a reliable approach to valuing timber. The information is also used to assure the accuracy of the transaction evidence system and to develop minimum stumpage rates for small sales or for areas where there is no current sale activity to use for transaction evidence. If the information is not collected, FS does not have a means for determining if the value being received from timber sales really reflects the timber's true value.

Description of Respondents: Business or other for-profit.

Number of Respondents: 20.

Frequency of Responses: Reporting: On occasion.

Total Burden Hours: 20.

Forest Service

Title: Annual Wildfire Summary Report.

OMB Control Number: 0596-0025.

Summary of Collection: The Cooperative Forestry Assistance Act of 1978 (U.S.C. 2101) requires the Forest Service (FS) to collect information about wildfire suppression efforts by State and local fire fighting agencies in order to support specific Congressional funding requests for the Forest Service State and Private Forestry Cooperative Fire Program. The program provides supplemental funding for State and local fire fighting agencies. FS will collect information using form FS 3100-8.

Need and Use of the Information: FS will collect information to determine if the Cooperative Fire Program funds provided to the State and local fire fighting agencies have been used by State and local agencies to improve their fire suppression capabilities. The information collected will be shared with the public about the importance of the State and Private Cooperative Fire Program. Without the information the program could not be monitored for effectiveness and efficiency.

Description of Respondents: State, Local or Tribal Government

Number of Respondents: 50.

Frequency of Responses: Reporting: Annually.

Total Burden Hours: 25.

Agricultural Marketing Service

Title: Marketing Agreement No. 146, Regulating the Quality of Domestically Produced Peanuts (7 CFR part 998).

OMB Control Number: 0581-0067.

Summary of Collection: The Agricultural Marketing Service (AMS), through the authorities emanating from the Agricultural Marketing Agreement Act of 1937 and Marketing Agreement No. 146 (covering peanuts grown in the U.S.), regulates certain agricultural commodities for the purpose of providing orderly marketing conditions in interstate commerce and improving returns to producers. The required information relating to peanut supplies, shipments, inspection disposition, and other inventory information is collected through the use of standardized forms and written letters.

Need and Use of the Information: The Peanut Administrative Committee administers the program and has developed the necessary forms required to file information relating to peanut supplies, shipments, dispositions, and other information. The Committee periodically reviews reports and forms so only the minimum information necessary is collected to effectively carry out the requirements of the Agreement. Only authorized representatives of USDA and employees of the Committee use the information collected. Much of the information is compiled in aggregate and provided to the industry to assist in marketing decisions. If the information were collected less frequently, it would eliminate the data needed to keep the domestic peanut industry and Secretary abreast of changes at the State and local level.

Description of Respondents: Business or other for-profit; Farms.

Number of Respondents: 25.

Frequency of Responses: Recordkeeping; Reporting: On occasion, monthly, annually.

Total Burden Hours: 107.

Agricultural Marketing Service

Title: Reporting and Recordkeeping Requirements for 7 CFR, Part 29.

OMB Control Number: 0581-0056.

Summary of Collection: The Tobacco Inspection Act (U.S.C. 511) requires: (1) That all tobacco sold at designated auction markets in the U.S. be inspected and graded; (2) for the establishment and maintenance of tobacco standards for U.S. grown types; (3) for the collection and dissemination of market news; and (4) for provisions to be made for interested parties to request inspection and grading services on an “as needed” basis. The Dairy and Tobacco Adjustment Act, 1983 (Pub. L. 98-198) gives authorization to the Secretary to inspect all tobacco offered for importation into the United States for grade and quality except cigar and oriental tobacco which must be certified by the importer as to kind and type and in the case of cigar tobacco which will be used solely in the manufacture or production of cigars. Also, the Secretary has the authority to fix and collect fees from the importers to cover the cost of inspection.

Need and Use of the Information: Various forms are used for the inspection and certification processes. The primary sources of data used to complete the forms are used in all business transactions. If the information were collected less frequently, it would eliminate data needed to keep the tobacco industry and the Secretary abreast of changes.

Description of Respondents: Business or other for-profit.

Number of Respondents: 645.

Frequency of Responses: Recordkeeping; Reporting: On occasion.

Total Burden Hours: 13,504.

Agricultural Marketing Service

Title: Export Fruit Regulations.

OMB Control Number: 0581-0143.

Summary of Collection: Fresh apples and grapes grown in the United States shipped to any foreign destination must meet minimum quality and other requirements established by regulations issued under the Export Apple Act (7 CFR Part 33) and the Export Grape and Plum Act (7 CFR Part 35). These Acts were designed to promote the foreign trade of the United States in apples, grapes and plums; to protect the reputation of these American-grown commodities; and to prevent deception or misrepresentation of the quality of such products moving in foreign commerce. The regulation issued under the Export Grape and Plum Act (7 CFR Part 35) cover fresh grapes grown in the United States and shipped to foreign destinations, except Canada and Mexico.

Need and Use of the Information: Persons who ship fresh apples and grapes grown in the U.S. to foreign destinations must have such shipments inspected and certified by Federal or Federal-State Inspection Service (FSIS) inspectors. The Agriculture Marketing Service administers the FSIS. Official FSIS inspection certificates and phytosanitary certificates issued by USDA's Animal and Plant Health Inspection Service provide the needed information for USDA. Export carriers are required to keep on file for three years copies of inspection certificates for apples and grapes.

Description of Respondents: Business or other for-profit; Farms.

Number of Respondents: 115.

Frequency of Responses: Recordkeeping; Reporting; On occasion; monthly; annually.

Total Burden Hours: 2204.

Nancy B. Sternberg,
Departmental Clearance Officer.

[FR Doc. 01-9427 Filed 4-16-01; 8:45 am]

BILLING CODE 3410-01-M